DEPARTMENT OF COMMERCE

National Oceanic and Atmospheric Administration

[RTID 0648-XA959]

Marine Mammals; File No. 25581

AGENCY: National Marine Fisheries Service (NMFS), National Oceanic and Atmospheric Administration (NOAA), Commerce.

ACTION: Notice; receipt of application.

SUMMARY: Notice is hereby given that Freedive Pictures, Ltd, St. Stephens Avenue Bristol, United Kingdom, BS1 1YL, (Responsible Party: Sophie Morgan), has applied in due form for a permit to conduct commercial or educational photography on marine mammals.

DATES: Written, telefaxed, or email comments must be received on or before April 23, 2021.

ADDRESSES: These documents are available upon written request via email to NMFS.Pr1Comments@noaa.gov.

Written comments on this application should be submitted via email to NMFS.Pr1Comments@noaa.gov. Please include File No. 25581 in the subject line of the email comment.

Those individuals requesting a public hearing should submit a written request via email to NMFS.Pr1Comments@noaa.gov. The request should set forth the specific reasons why a hearing on this application would be appropriate.

FOR FURTHER INFORMATION CONTACT: Shasta McClenahan, Ph.D. or Erin Markin, Ph.D., (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film marine mammals in Hawaii, California, and Alaska for a film showcasing the wonders of the Pacific Ocean. Above water or underwater filming may occur from land, vessels, or an unmanned aircraft system. Species to be filmed in the day or night include up to 1,750 humpback whales (Megaptera novaeangliae; Hawaii distinct population segment), 200 gray whales (Eschrichtius robustus), 100 killer whales (Orcinus orca), 200 harbor porpoises (Phocoena phocoena), 200 Dall's porpoises (Phocoenoides dalli), 800 bottlenose dolphins (Tursiops truncatus), 1,000 spinner dolphins (Stenella longirostris), 1,500 short-beaked common dolphins (Delphinus delphis), 1,500 long-beaked common dolphin (Delphinus capensis), 600 Pacific white sided dolphin (Lagenorhynchus obliquidens), 300 pantropical spotted dolphin (Stenella attenuata), 300 harbor seals (Phoca vitulina), and 2,000 California sea lions (Zalophus californianus), annually. The permit would be valid for two years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 19, 2021.
Amy Sloan,
Acting Chief, Permits and Conservation Division, Office of Protected Resources, National Marine Fisheries Service.

[FR Doc. 2021-06056 Filed 3-23-21; 8:45 am]

BILLING CODE 3510-22-P